DEPARTMENT OF THE TREASURY

Internal Revenue Service

Paper Check Conversion Over the Counter

AGENCY: Internal Revenue Service (IRS), Treasury.

ACTION: Electronic fund transfers of one-time payments for written determinations.

SUMMARY: The Internal Revenue Service intends to begin electronically processing payments received by check for written determinations pursuant to Rev. Proc. 2009-01. When a requestor makes a payment by check for a written determination, the requestor authorizes the IRS to either use information from the check to make a one-time electronic fund transfer from the requestor's account or to process the payment as a check transaction. When the IRS uses information from the check to make an electronic fund transfer, funds may be withdrawn from the requestor's account as soon as the same day that the IRS receives the payment. Additionally, the requestor will not receive the check back from their financial institution. This change in procedure will be effective on and after August 17, 2009.

FOR FURTHER INFORMATION CONTACT: For inquiries, please call Michael E. Parker, Director, Legal Processing Division, Office of Chief Counsel, Internal Revenue Service, at 202-622-4528, or through the Internet at Michael.E.Parker@IRSCOUNSEL.TREAS.GOV.

Michael E. Parker,
Director, Legal Processing Division (Procedure and Administration).

[FR Doc. E9-16903 Filed 7-15-09; 8:45 am]

BILLING CODE 4830-01-P